DEPARTMENT OF THE INTERIOR

Minerals Management Service

Agency Information Collection Activities: Proposed Collection; Comment Request

AGENCY: Minerals Management Service (MMS), Interior.

ACTION: Notice of a new information collection (1010-NEW).

SUMMARY: To comply with the Paperwork Reduction Act of 1995 (PRA), MMS is inviting comments on a collection of information that we will submit to the Office of Management and Budget (OMB) for review and approval. The information collection request (ICR) concerns the paperwork requirements that address the narrative portion only of MMS's Coastal Impact Assessment Program (CIAP) which is a grant program. The Energy Policy Act of 2005 gave responsibility to MMS for CIAP by amending Section 31 of the Outer Continental Shelf Lands Act (43 U.S.C. 1356a; Appendix A).

DATES: Submit written comments by July 24, 2006.

ADDRESSES: You may submit comments by any of the following methods listed below. Please use the Information Collection Number 1010-NEW as an identifier in your message.

• Public Connect on-line commenting system, https://ocsconnect.mms.gov. Follow the instructions on the Web site for submitting comments.

• E-mail MMS at rules.comments@mms.gov. Identify with Information Collection Number 1010-NEW in the subject line.

• Fax: 703-787-1093. Identify with Information Collection Number 1010-NEW.

• Mail or hand-carry comments to the Department of the Interior; Minerals Management Service; Attention: Rules Process Team (RPT); 381 Elden Street, MS-4024; Herndon, Virginia 20170-4817. Please reference “Information Collection 1010-NEW” in your comments.

FOR FURTHER INFORMATION CONTACT: Cheryl Blundon, Rules Processing Team at (703) 787-1600. You may also contact Cheryl Blundon to obtain a copy, at no cost, of the CIAP Guidelines.

SUPPLEMENTARY INFORMATION: Title: Coastal Impact Assistance Program (CIAP).

OMB Control Number: 1010-NEW.

Abstract: With the passage of the Energy Policy Act of 2005 (EPAct), the Minerals Management Service (MMS) was given responsibility for the Coastal Impact Assistance Program (CIAP) through the amendment of Section 31 of the Outer Continental Shelf Lands Act (43 U.S.C. 1356a Appendix A). The program was authorized for FY 2007, 2008, 2009 and 2010.

The CIAP recognizes that impacts from Outer Continental Shelf (OCS) oil and gas activities fall disproportionately on the coastal states and localities nearest to where the activities occur, and where associated facilities are located. The CIAP legislation appropriates money for eligible states and coastal political subdivisions for coastal restoration/improvement projects. MMS shall disburse $250 million for each FY 2007 through 2010 to eligible producing states and coastal political subdivisions (CPSs) through a grant program. The funds allocated to each state are based on the proportion of qualified OCS revenues offshore the individual state to total qualified OCS revenues from all states. In order to receive funds, the states submit CIAPs detailing how the funds will be expended. Alabama, Alaska, California, Louisiana, Mississippi, and Texas are the only eligible states under EPAct. Counties, parishes or equivalent units of government within those states lying all or in part within the coastal zone, as defined by section 304(1) of the Coastal Zone Management Act (CZMA) 1972, as amended, are the Coastal Political Subdivisions (CPSs) eligible for CIAP funding, a total of 67 local jurisdictions.

To approve a plan, legislation requires that the Secretary of the Interior must be able to determine that the funds will be used in accordance with EPAct criteria and that projects will use the funds according to the EPAct. To confirm appropriate use of funds, MMS requires affirmation of grantees meeting Federal, state, and local laws and adequate project descriptions. To accomplish this, MMS is providing in its CIAP Environmental Assessment a suggested narrative format to be followed by each applicant for a CIAP grant. This narrative will assist MMS in its review of applications to determine that adequate and appropriate measures were taken to meet the laws that affect the proposed coastal projects. This narrative will be submitted electronically as part of the grant application. At that time, applicants will be obliged to fill out several OMB-approved standard forms as well. Most of the eligible states and CPSs, as experienced grant applicants, will be familiar with this narrative request.

This information collection request (ICR) addresses the narrative portion only of the MMS CIAP grant program.

We will protect information from respondents considered proprietary under the Freedom of Information Act (5 U.S.C. 552) and its implementing regulations (43 CFR part 2). No items of a sensitive nature are collected. Responses are required to obtain or retain benefits.

Frequency: On occasion.

Estimated Number and Description of Respondents: Approximately 6 states and 67 CPSs.

Estimated Reporting and Recordkeeping “Hour” Burden: We are requesting 1,500 hours. In calculating the burdens, we assumed that respondents perform certain requirements in the normal course of their activities. We consider these to be usual and customary and took that into account in estimating the burden. We anticipate an average of 300 projects annually, which will take approximately 5 hours each to complete. This would be a total of 1,500 burden hours.

Estimated Reporting and Recordkeeping “Non-Hour Cost” Burden: We have identified no non-hour cost burdens for this collection.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the “non-hour cost” burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: MMS's practice is to make comments, including names and addresses of respondents, available for public review. If you wish your name and/or address to be withheld, you must state this prominently at the beginning of your comment. MMS will honor this request to the extent allowable by law; however, anonymous comments will not be considered. All submissions from organizations or businesses, and from individuals identifying themselves as representatives or officials of organizations or businesses, will be made available for public inspection in their entirety.

MMS Information Collection Clearance Officer: Arlene Bajusz, (202) 208-7744.

Dated: May 15, 2006.
E.P. Danenberger,
Chief, Office of Offshore Regulatory Programs.

[FR Doc. E6-7856 Filed 5-22-06; 8:45 am]

BILLING CODE 4310-MR-P